DEPARTMENT OF COMMERCE

National Oceanic and Atmospheric Administration

50 CFR Part 660

[Docket No. 021209299-2299-01; I.D. 112502B]

Magnuson-Stevens Act Provisions; Fisheries off the West Coast States and in the Western Pacific; Pacific Coast Groundfish Fishery; Groundfish Fishery Management Measures; Correction

AGENCY: National Marine Fisheries Service (NMFS), National Oceanic and Atmospheric Administration (NOAA), Commerce.

ACTION: Emergency rule; correction.

SUMMARY: This document contains corrections to the emergency rule published on January 7, 2003 for the Pacific Coast groundfish fishery.

DATES: Effective January 27, 2003 through February 28, 2003.

FOR FURTHER INFORMATION CONTACT: Jamie Goen or Carrie Nordeen (NMFS, Northwest Region), 206-526-6140.

SUPPLEMENTARY INFORMATION: The specifications and management measures for the 2003 fishing year (January 1 through December 31, 2003) are initially being published in the Federal Register as an emergency rule for January 1 through February 28, 2003 (68 FR 908, January 7, 2003), and as a proposed rule for March 1 through December 31, 2003 (68 FR 936, January 7, 2003). The final rule for March 1 through December 31, 2003, will be published in the Federal Register after the public comment period ends on February 7, 2003.

Management measures for the Pacific Coast groundfish fishery, effective January 1 through February 28, 2003 (68 FR 908, January 7, 2003), contained errors in the trawl trip limit tables, errors in management area coordinates for both commercial and recreational fisheries, and technical errors that require correction.

The limited entry trawl trip limit table, Table 3 (North)- line 23, is corrected to clarify the yellowtail rockfish small footrope trawl trip limit north of 40°10′ N. latitude (lat.). The original language was confusing, and this correction adds a section to emphasize the limits to the amount of yellowtail that can be harvested if it′s not associated with flatfish. Coastwide, the whiting trip limits, Table 3 (North)- line 14 and Table 3 (South)- line 18, are corrected to allow only mid-water trawling for Pacific whiting inside the rockfish conservation area (RCA) during the primary season (May through August). This is because harvest of whiting outside of the primary season is only allowed as an incidental catch in other groundfish fisheries, which are not supposed to occur in the RCA. Regulatory language for the recreational groundfish fishery off California is corrected to prohibit the retention of bocaccio, canary rockfish, yelloweye rockfish and cowcod in the Rockfish, Cabezon, Greenling Complex (RCG Complex) bag limits south of 40°10′ N. lat. This prohibition was explained in the preamble to the proposed rule, which was published in the same issue of the Federal Register with the emergency rule which this rule corrects. The emergency rule crossed referenced the proposed rule for the rationale for the management measures.

Coordinates for the following lines are corrected in this notice: the 50-fm (91-m) depth contour used between 40°10′ N. lat. and 34°27′ N. lat. as an eastern boundary for the trawl RCA in the months of January and February; the 60-fm (110-m) depth contour used between 40°10′ N. lat. and 34°27′ N. lat. as an eastern boundary for the trawl RCA in March through October; the 100-fm (183-m) depth contour used north of 40°10′ N. lat. as an eastern boundary for the trawl RCA and as a western boundary for the non-trawl RCA; the 100-fm (183-m) depth contour used between 34°27′ N. lat. and the U.S. border with Mexico as an eastern boundary for the trawl RCA; the 150-fm (274-m) depth contour used between 40°10′ N. lat. and the U.S. border with Mexico as a western boundary for the trawl RCA and used between 38° N. lat. and the U.S. border with Mexico as a western boundary for the non-trawl RCA; and the Winter Petrale Boundary (explained at 68 FR, 936, January 7, 2003) used north of 38° N. lat. as a western boundary for the trawl RCA and modified to allow fishing for petrale in winter months of January, February, November, and December.

The Yelloweye Rockfish Conservation Area (YRCA), an “L-shaped” area off Washington closed to recreational fishing for groundfish and halibut, is corrected to read an “L-shaped” rather than a “C-shaped” area. The YRCA is proposed to become a “C-shaped” area from March - December 2003 (68 FR 936, January 7, 2003). The YRCA coordinates are also corrected by rearranging them to read consecutively in the right order from top to bottom.

Technical Corrections

The emergency rule for January 1 through February 28, 2003 (68 FR 908, January 7, 2003), contained errors in references to regulatory section 50 CFR 660.304. The 2003 emergency rule specifications and management measures should refer to the Cowcod Conservation Areas (CCAs) in § 660.304(i) not in § 660.304(c).

This document corrects the errors and re-publishes the limited entry trawl trip limit tables (Table 3 (North) and Table 3 (South)).

Corrections

In the rule FR Doc. 02-32755, in the issue of Tuesday, January 7, 2003 (68 FR 908), under IV. NMFS Actions, make the following corrections:

Under A. General Definitions and Provisions:

1. On page 912, in columns 2 and 3, paragraphs (19)(a) and (b) are corrected to read as follows:

* * * * *

(19) * * *

(a) Yelloweye Rockfish Conservation Area. Recreational fishing for groundfish is prohibited within the YRCA. It is unlawful for recreational fishing vessels to take, retain, possess, or land groundfish inside the YRCA. The YRCA is an “L-shaped” area off the northern Washington coast that is bound by straight lines connecting all of the following points in the order listed:

48°18′ N. lat., 125°18′ W. long.;

48°18′ N. lat., 125°11′ W. long.;

48°04′ N. lat., 125°11′ W. long.;

48°04′ N. lat., 124°59′ W. long.;

48°00′ N. lat., 124°59′ W. long.;

48°00′ N. lat., 125°18′ W. long.;

and connecting back to 48°18′ N. lat., 125°18′ W. long.

(b) Cowcod Conservation Areas. The coordinates of the Cowcod Conservation Areas (CCAs) are defined at § 660.304(i). Recreational and commercial fishing for groundfish is prohibited within the CCAs, except that recreational and commercial fishing for rockfish and lingcod is permitted in waters inside 20 fathoms (36.9 m). It is unlawful to take and retain, possess, or land groundfish inside the CCAs, except for rockfish and lingcod taken in waters inside the 20-fathom (36.9 m) depth contour, when those waters are open to fishing. Commercial fishing vessels may transit through the Western CCA with their gear stowed and groundfish on board only in a corridor through the Western CCA bounded on the north by the latitude line at 33°00′30” N. lat., and bounded on the south by the latitude line at 32°59′30” N. lat.

* * * * *

2. On page 914, in column 3, line 49, number (81) is corrected to read as follows:

“(81) 46°17.52′ N. lat., 124°35.35′ W. long.;”

3. On page 917, in column 3, paragraph (19)(e)(v) introductory text and on page 918, paragraphs (109) through (129) are corrected and paragraphs (130) through (150) are correctly added to read as follows:

* * * * *

(e) * * *

(v) The Winter Petrale Boundary used north of 38° N. lat. as a western boundary for the trawl RCA, modified to allow fishing for petrale in winter months of January, February, November, and December, is defined by straight lines connecting all of the following points in the order stated:

* * * * *

(109) 41°47.79′ N. lat., 124°29.52′ W. long.;

(110) 41°21.00′ N. lat., 124°29.00′ W. long.;

(111) 41°11.00′ N. lat., 124°23.00′ W. long.;

(112) 41°5.00′ N. lat., 124°23.00′ W. long.;

(113) 40°54.00′ N. lat., 124°26.00′ W. long.;

(114) 40°50.00′ N. lat., 124°26.00′ W. long.;

(115) 40°44.51′ N. lat., 124°30.83′ W. long.;

(116) 40°40.61′ N. lat., 124°32.06′ W. long.;

(117) 40°37.36′ N. lat., 124°29.41′ W. long.;

(118) 40°35.64′ N. lat., 124°30.47′ W. long.;

(119) 40°37.43′ N. lat., 124°37.10′ W. long.;

(120) 40°36.00′ N. lat., 124°40.00′ W. long.;

(121) 40°31.59′ N. lat., 124°40.72′ W. long.;

(122) 40°24.64′ N. lat., 124°35.62′ W. long.;

(123) 40°23.00′ N. lat., 124°32.00′ W. long.;

(124) 40°23.39′ N. lat., 124°28.70′ W. long.;

(125) 40°22.28′ N. lat., 124°25.25′ W. long.;

(126) 40°21.90′ N. lat., 124°25.17′ W. long.;

(127) 40°22.00′ N. lat., 124°28.00′ W. long.;

(128) 40°21.35′ N. lat., 124°29.53′ W. long.;

(129) 40°19.75′ N. lat., 124°28.98′ W. long.;

(130) 40°18.15′ N. lat., 124°27.01′ W. long.;

(131) 40°17.45′ N. lat., 124°25.49′ W. long.;

(132) 40°18.00′ N. lat., 124°24.00′ W. long.;

(133) 40°16.00′ N. lat., 124°26.00′ W. long.;

(134) 40°17.00′ N. lat., 124°35.00′ W. long.;

(135) 40°16.00′ N. lat., 124°36.00′ W. long.;

(136) 40°10.00′ N. lat., 124°22.75′ W. long.;

(137) 40°03.00′ N. lat., 124°14.75′ W. long.;

(138) 39°49.25′ N. lat., 124°06.00′ W. long.;

(138) 39°34.75′ N. lat., 123°58.50′ W. long.;

(140) 39°03.07′ N. lat., 123°57.81′ W. long.;

(141) 38°52.25′ N. lat., 123°56.25′ W. long.;

(142) 38°41.42′ N. lat., 123°46.75′ W. long.;

(143) 38°39.47′ N. lat., 123°46.59′ W. long.;

(144) 38°35.25′ N. lat., 123°42.00′ W. long.;

(145) 38°19.97′ N. lat., 123°32.95′ W. long.;

(146) 38°15.00′ N. lat., 123°26.50′ W. long.;

(147) 38°08.09′ N. lat., 123°23.39′ W. long.;

(148) 38°10.08′ N. lat., 123°26.82′ W. long.;

(149) 38°04.08′ N. lat., 123°32.12′ W. long.; and

(150) 38°00.00′ N. lat., 123°29.85′ W. long.

* * * * *

4. On page 919,

a. In column 1, the last two lines, number (34) is corrected to read as follows:

“(34) 34°27.00′ N. lat., 120°36.00′ W. long.;”

b. In column 3, line 3, number (34) is corrected to read as follows:

“(34) 34°27.00′ N. lat., 120°36.00′ W. long.;”

c. In column 3, line 12, number (1) is corrected to read as follows:

“(1) 34°27.00′ N. lat., 120°39.00′ W. long.;”

5. On page 920, in column 1, line 9, paragraph (19)(e)(ix) is corrected to read as follows:

* * * * *

(e) * * *

(ix) The 150-fm (274-m) depth contour used between 40°10′ N. lat. and the U.S. border with Mexico as a western boundary for the trawl RCA and used between 38° N. lat. and the U.S. border with Mexico as a western boundary for the non-trawl RCA is defined by straight lines connecting all of the following points in the order stated:

(1) 40°10.01′ N. lat., 124°22.90′ W. long.;

(2) 40°7.00′ N. lat., 124°19.00′ W. long.;

(3) 40°8.10′ N. lat., 124°16.70′ W. long.;

(4) 40°5.90′ N. lat., 124°17.77′ W. long.;

(5) 40°1.46′ N. lat., 124°12.85′ W. long.;

(6) 40°4.32′ N. lat., 124°10.33′ W. long.;

(7) 40°3.21′ N. lat., 124°8.83′ W. long.;

(8) 40°1.33′ N. lat., 124°8.70′ W. long.;

(9) 39°58.51′ N. lat., 124°12.44′ W. long.;

(10) 39°55.73′ N. lat., 124°7.49′ W. long.;

(11) 39°34.75′ N. lat., 123°58.50′ W. long.;

(12) 39°03.07′ N. lat., 123°57.81′ W. long.;

(13) 38°54.00′ N. lat., 123°57.00′ W. long.;

(14) 38°08.09′ N. lat., 123°23.39′ W. long.;

(15) 38°10.08′ N. lat., 123°26.82′ W. long.;

(16) 38°04.08′ N. lat., 123°32.12′ W. long.;

(17) 37°59.73′ N. lat., 123°29.85′ W. long.;

(18) 37°51.46′ N. lat., 123°25.16′ W. long.;

(19) 37°44.06′ N. lat., 123°11.44′ W. long.;

(20) 37°35.26′ N. lat., 123°2.29′ W. long.;

(21) 37°14.00′ N. lat., 122°50.00′ W. long.;

(22) 37°1.00′ N. lat., 122°36.00′ W. long.;

(23) 36°58.07′ N. lat., 122°28.35′ W. long.;

(24) 37°0.71′ N. lat., 122°24.53′ W. long.;

(25) 36°57.50′ N. lat., 122°24.98′ W. long.;

(26) 36°58.38′ N. lat., 122°21.85′ W. long.;

(27) 36°55.85′ N. lat., 122°21.95′ W. long.;

(28) 36°52.86′ N. lat., 122°12.89′ W. long.;

(29) 36°48.71′ N. lat., 122°9.28′ W. long.;

(30) 36°46.65′ N. lat., 122°4.10′ W. long.;

(31) 36°51.00′ N. lat., 121°58.00′ W. long.;

(32) 36°44.00′ N. lat., 121°59.00′ W. long.;

(33) 36°38.00′ N. lat., 122°2.00′ W. long.;

(34) 36°26.00′ N. lat., 121°59.50′ W. long.;

(35) 36°22.00′ N. lat., 122°1.00′ W. long.;

(36) 36°19.00′ N. lat., 122°5.00′ W. long.;

(37) 36°14.00′ N. lat., 121°58.00′ W. long.;

(38) 36°10.61′ N. lat., 121°44.51′ W. long.;

(39) 35°50.53′ N. lat., 121°29.93′ W. long.;

(40) 35°46.00′ N. lat., 121°28.00′ W. long.;

(41) 35°38.94′ N. lat., 121°23.16′ W. long.;

(42) 35°26.00′ N. lat., 121°8.00′ W. long.;

(43) 35°7.42′ N. lat., 120°57.08′ W. long.;

(44) 34°42.00′ N. lat., 120°54.00′ W. long.;

(45) 34°29.00′ N. lat., 120°44.00′ W. long.;

(46) 34°22.00′ N. lat., 120°32.00′ W. long.;

(47) 34°21.00′ N. lat., 120°21.00′ W. long.;

(48) 34°24.00′ N. lat., 120°15.00′ W. long.;

(49) 34°22.11′ N. lat., 119°56.63′ W. long.;

(50) 34°19.00′ N. lat., 119°48.00′ W. long.;

(51) 34°15.00′ N. lat., 119°48.00′ W. long.;

(52) 34°8.00′ N. lat., 119°37.00′ W. long.;

(53) 34°7.00′ N. lat., 120°11.00′ W. long.;

(54) 34°13.00′ N. lat., 120°30.00′ W. long.;

(55) 34°9.00′ N. lat., 120°38.00′ W. long.;

(56) 33°58.00′ N. lat., 120°29.00′ W. long.;

(57) 33°51.00′ N. lat., 120°9.00′ W. long.;

(58) 33°38.00′ N. lat., 119°58.00′ W. long.;

(59) 33°38.00′ N. lat., 119°50.00′ W. long.;

(60) 33°46.25′ N. lat., 119°49.32′ W. long.;

(61) 33°53.82′ N. lat., 119°53.42′ W. long.;

(62) 33°59.00′ N. lat., 119°21.00′ W. long.;

(63) 34°2.00′ N. lat., 119°13.00′ W. long.;

(64) 34°1.52′ N. lat., 119°4.50′ W. long.;

(65) 33°58.83′ N. lat., 119°3.76′ W. long.;

(66) 33°56.55′ N. lat., 118°40.50′ W. long.;

(67) 33°51.00′ N. lat., 118°38.00′ W. long.;

(68) 33°39.63′ N. lat., 118°18.75′ W. long.;

(69) 33°35.44′ N. lat., 118°17.57′ W. long.;

(70) 33°31.98′ N. lat., 118°12.59′ W. long.;

(71) 33°33.25′ N. lat., 117°54.15′ W. long.;

(72) 33°31.43′ N. lat., 117°49.84′ W. long.;

(73) 33°16.53′ N. lat., 117°36.13′ W. long.;

(74) 33°6.51′ N. lat., 117°24.11′ W. long.;

(75) 32°54.11′ N. lat., 117°21.45′ W. long.;

(76) 32°46.15′ N. lat., 117°24.26′ W. long.;

(77) 32°41.97′ N. lat., 117°22.10′ W. long.;

(78) 32°39.00′ N. lat., 117°28.13′ W. long.; and

(79) 32°34.84′ N. lat., 117°24.62′ W. long.

* * * * *

Under B. Limited Entry Fishery:

6. On pages 924-925, Table 3 (North) and Table 3 (South) are corrected to read as follows:

BILLING CODE 3510-22-S

BILLING CODE 3510-22-C

Under D. Recreational Fishery:

7. On page 931, in column 2, paragraph (1)(a) is corrected to read as follows:

* * * * *

(1) * * *

(a) Yelloweye Rockfish Conservation Area. The YRCA is an “L-shaped” area which is closed to recreational groundfish and halibut fishing. The coordinates for the YRCA are defined at A.(19).

* * * * *

8. On page 932, in column 1, line 29, paragraph (3)(b)(i)(A) is corrected to read as follows:

* * * * *

(3) * * *

(b) * * *

(i) * * *

(A) Cowcod Conservation Areas. Recreational fishing for groundfish is prohibited within the CCAs, for coordinates described in Federal regulations at 50 CFR 660.304(i), except that fishing for sanddabs is permitted subject to the provisions in paragraph D.(3)(iv) and that fishing for species managed under this section (not including cowcod, bocaccio, canary, and yelloweye rockfishes) is permitted in waters shoreward of the 20- fm (37-m) depth contour within the CCAs from July 1 through December 31, 2003, subject to the bag limits in this section.

* * * * *

9. On page 932, in column 2, line 3, paragraph (3)(b)(ii)(B) is corrected to read as follows:

* * * * *

(ii) * * *

(B) Bag limits, boat limits, hook limits. South of 40°10′ N. lat., in times and areas when the recreational season for the RCG Complex is open, there is a limit of two hooks and one line when fishing for rockfish, and the bag limit is 10 RCG Complex fish per day (not including bocaccio, canary rockfish, yelloweye rockfish and cowcod which are prohibited), of which up to 10 may be rockfish, no more than 2 of which may be shallow nearshore rockfish. [Note: The shallow nearshore rockfish group off California are composed of kelp, grass, black-and-yellow, China, and gopher rockfishes.] Also within the 10 RCG Complex fish per day limit, no more than 2 fish per day may be greenling (kelp and/or rock greenling) and no more than 3 fish per day may be cabezon. Lingcod, California scorpionfish, and sanddabs taken in recreational fisheries off California do not count toward the 10 RCG Complex fish per day bag limit. Multi-day limits are authorized by a valid permit issued by California and must not exceed the daily limit multiplied by the number of days in the fishing trip.

* * * * *

Classification

The Assistant Administrator for Fisheries, NOAA (AA) finds that good cause exists pursuant to 5 U.S.C. 553(b)(B) to waive prior notice and opportunity for public comment as such prior notice and opportunity for public comment is unnecessary, impracticable, and contrary to the public interest. It is unnecessary because this notice publishes a minor technical correction, changing the 2003 emergency rule specifications and management measures to refer to the CCAs in section 660.304(i) to section 660.304(c). It is impracticable because NMFS does not have sufficient time to seek public comment on the clarifications to harvest levels and management measures in this notice and to incorporate such comments into the notice before it is published in the Federal Register. NMFS must act quickly to publish this notice as it corrects harvest trip limits and other management measures that will protect overfished groundfish stocks. Such measures include clarifying the trip limits of yellowtail rockfish and Pacific whiting, allowing only mid-water trawling for Pacific whiting inside the RCA from May through August, and prohibiting the retention of bocaccio, canary rockfish, yelloweye rockfish, and cowcod in the RCG complex bag limits south of 40°10′ N. lat. Prior notice and opportunity for public comment is contrary to the public interest because such notice and opportunity for public comment will delay implementing this correction notice, thereby increasing the risk of further depletion of overfished groundfish stocks. Such depletion would most likely result in the premature closure of certain sectors in the Pacific Coast groundfish fishery later in 2003 to protect such stocks. These fishery closures would likely have a negative socio-economic impact on local fishing communities. Finally, one of the measures corrects the western boundary of the trawl RCA in order to allow access to areas where petrale sole congregate in the winter. Delay in implementing this correction would prevent fishers from accessing the petrale sole before they disperse, and would have a negative socio-economic impact on local fishing communities.

The AA also finds good cause pursuant to 5 U.S.C. 553(D)(3) to waive the 30 day delay in the effective date of this correction notice. Such a delay would increase the probability that fishermen would further deplete overfished groundfish species as they would continue to fish in areas and with gear that are incompatible with the conservation efforts contained in the 2003 harvest specifications and management measures. For the correction of the petrale sole area, the delay would prevent fishermen of taking advantage of an opportunity to harvest healthy stocks of petrale sole when they can be taken with minimal bycatch.

Authority: 1801 et seq.

Dated: January 23, 2003.
Rebecca Lent,
Deputy Assistant Administrator for Regulatory Affairs, National Marine Fisheries Service.

[FR Doc. 03-1910 Filed 1-27-03; 2:12 pm]

BILLING CODE 3510-22-S